EXPORT-IMPORT BANK

[Public Notice 2021-3035]

Agency Information Collection Activities: Comment Request

AGENCY: Export-Import Bank of the United States.

ACTION: Submission for OMB review and comments request.

SUMMARY: The Export-Import Banks of the United States (EXIM), as part of its continuing effort to reduce paperwork and respondent burden, invites the general public and other Federal Agencies to comment on the proposed information collection, as required by the Paperwork Reduction Act of 1995. This collection of information is necessary to determine eligibility of the applicant for EXIM assistance. The Application for Short-Term Multi-Buyer Export Credit Insurance Policy will be used to determine the eligibility of the applicant and the transaction for Export-Import Bank assistance under its insurance program. Export-Import Bank customers will be able to submit this form on paper or electronically.

DATES: Comments must be received on or before November 29, 2021 to be assured of consideration.

ADDRESSES: Comments may be submitted electronically on WWW.REGULATIONS.GOV (EIB 10-02) or by email tara.pender@exim.gov, or by mail to Tara Pender, Export-Import Bank of the United States, 811 Vermont Ave. NW, Washington, DC. The application tool can be reviewed at: http://www.exim.gov/sites/default/files/pub/pending/eib92-50.pdf.

FOR FURTHER INFORMATION CONTACT: To request additional information, please Tara Pender. 202-565-3655.

SUPPLEMENTARY INFORMATION:

Title and Form Number: EIB 92-50 Application for Short-Term Multi-Buyer Export Credit Insurance Policy.

OMB Number: 3048-0023.

Type of Review: Update & Renewal.

Need and Use: The Application for Short-Term Multi-Buyer Export Credit Insurance Policy will be used to determine the eligibility of the applicant and the transaction for Export-Import Bank assistance under its insurance program.

Affected Public: This form affects entities involved in the export of U.S. goods and services.

Annual Number of Respondents: 285.

Estimated Time per Respondent: 0.5 hours.

Annual Burden Hours: 143.

Frequency of Reporting of Use: As needed.

Government Reviewing Time per Year:

Reviewing Time per Year: 285 hours.

Average Wages per Hour: $42.50.

Average Cost per Year: $12,113 (time * wages).

Benefits and Overhead: 20%.

Total Government Cost: $14,535.

Bassam Doughman,
IT Specialist.

[FR Doc. 2021-23469 Filed 10-27-21; 8:45 am]

BILLING CODE 6690-01-P